DEPARTMENT OF THE INTERIOR

Bureau of Indian Affairs

[192D0102DR/DS5A300000/DR.5A311.IA000118]

Final Environmental Impact Statement for the Tule River Tribe's Proposed Fee-to-Trust and Eagle Mountain Casino Relocation Project, Tulare County, California

AGENCY: Bureau of Indian Affairs, Interior.

ACTION: Notice.

SUMMARY: This notice advises the public that the Bureau of Indian Affairs (BIA), as lead agency, with the Tule River Indian Tribe (Tribe), City of Porterville (City), Tulare County (County), California Department of Transportation (Caltrans), and the U.S. Environmental Protection Agency (EPA) serving as cooperating agencies, intends to file a Final Environmental Impact Statement (FEIS) with the EPA in connection with the Tribe's application for transfer into trust by the United States of approximately 40 acres for gaming and other purposes in the City of Porterville, Tulare County, California.

DATES: The BIA will issue a Record of Decision for the proposed action on or after 30 days after the date the EPA publishes its Notice of Availability in the Federal Register. The BIA must receive any comments on the FEIS before that date.

ADDRESSES: You may mail or hand-deliver written comments to Amy Dutschke, Regional Director, Bureau of Indian Affairs, Pacific Region, 2800 Cottage Way, Sacramento, CA 95825. Please include your name, return address, and the caption “FEIS Comments, Tule River Tribe Casino Relocation Project” on the first page of your written comments. You may also submit comments through email to Chad Broussard, Environmental Protection Specialist, Bureau of Indian Affairs, at chad.broussard@bia.gov. If emailing comments, please use “FEIS Comments, Tule River Tribe Casino Relocation Project” as the subject of your email.

FOR FURTHER INFORMATION CONTACT: Chad Broussard, Environmental Protection Specialist, Bureau of Indian Affairs, Pacific Regional Office, 2800 Cottage Way, Room W-2820, Sacramento, California 95825; telephone: (916) 978-6165; email: chad.broussard@bia.gov. Information is also available online at www.tulerivereis.com.

SUPPLEMENTARY INFORMATION: The Tribe proposes to construct a casino resort on the approximately 40-acre trust property in Tulare County, California. The BIA published a Notice of Intent (NOI) to prepare an EIS in the Federal Register on December 30, 2016 (81 FR 96477), and in the Porterville Recorder, and held a public scoping meeting on January 23, 2017, at the Veterans Memorial Building, in Porterville, California. The BIA published the Notice of Availability (NOA) of the Draft EIS in the Federal Register on September 21, 2018 (83 FR 47935), and held a public hearing on October 15, 2018, at the Veterans Memorial Building in Porterville, California.

Background: The Tribe's proposed project consists of the following components: (1) The Department's transfer of approximately 40 acres from fee to trust status; (2) issuance of a determination by the Secretary of the Interior pursuant to Section 20 of the Indian Gaming Regulatory Act, 25 U.S.C. 2719; and (3) the development of the trust parcel and the off-site improvement areas. The proposed casino-hotel resort would include a hotel, convention center, multipurpose event space, several restaurant facilities, parking facilities and water reclamation infrastructure. The new facility would replace the Tribe's existing casino, and the existing casino buildings would be converted to Tribal government or service uses.

The following alternatives are considered in the FEIS: (1) Proposed Project; (2) Proposed Project with On-Site Water and Wastewater Systems; (3) Reduced Intensity Hotel and Casino; (4) Non-Gaming Hotel and Conference Center; (5) Expansion of Existing Eagle Mountain Casino; and (6) No Action Alternative. The BIA identified Alternative 1 as the Preferred Alternative as discussed in the FEIS.

The information and analysis contained in the FEIS, as well as its evaluation and assessment of the Preferred Alternative, will assist the Department of the Interior (Department) in its review of the issues presented in the fee-to-trust application. The Preferred Alternative does not reflect the Department's final decision because the Department must further evaluate all of the criteria listed in 25 CFR part 151 and 25 CFR part 292. The Department's consideration and analysis of the applicable regulations may lead to a final decision that selects an alternative other than the Preferred Alternative, including no action, or a variant of the Preferred or another of the alternatives analyzed in the FEIS.

Environmental issues addressed in the FEIS include geology and soils, water resources, air quality, biological resources, cultural and paleontological resources, socioeconomic conditions (including environmental justice), transportation and circulation, land use, public services, noise, hazardous materials, aesthetics, cumulative effects, and indirect and growth inducing effects.

Locations Where the FEIS is Available for Review: The FEIS is available for review during regular business hours at the BIA Pacific Regional Office at the address noted above in the ADDRESSES section of this notice, and the Porterville Public Library at 41 West Thurman Avenue in Porterville, California. The FEIS is also available online at www.tulerivereis.com. To obtain a compact disc copy of the FEIS, please provide your name and address in writing or by phone to Chad Broussard, Bureau of Indian Affairs, Pacific Regional Office. Contact information is listed in the FOR FURTHER INFORMATION CONTACT section of this notice. Individual paper copies of the FEIS will be provided upon payment of applicable printing expenses by the requestor for the number of copies requested.

Public Comment Availability: Comments, including names and addresses of respondents, will be available for public review at the BIA address shown in the ADDRESSES section, during regular business hours, 8 a.m. to 4:30 p.m., Monday through Friday, except holidays. Before including your address, telephone number, email address, or other personal identifying information in your comment, you should be aware that your entire comment—including your personal identifying information—may be made publicly available at any time. While you can ask in your comment that your personal identifying information be withheld from public review, the BIA cannot guarantee that this will occur.

Authority: This notice is published pursuant to Sec. 1503.1 of the Council of Environmental Quality Regulations (40 CFR parts 1500 through 1508) and Sec. 46.305 of the Department of the Interior Regulations (43 CFR part 46), implementing the procedural requirements of the NEPA of l969, as amended (42 U.S.C. 4371, et seq.), and is in the exercise of authority delegated to the Assistant Secretary—Indian Affairs by 209 DM 8.

Dated: May 20, 2019.
John Tahsuda,
Principal Deputy Assistant Secretary—Indian Affairs.

[FR Doc. 2019-11383 Filed 5-30-19; 8:45 am]

BILLING CODE 4337-15-P